DEPARTMENT OF THE INTERIOR

Bureau of Land Management

[ES-032-0-1430-EU; MNES-050506]

Realty Action; Direct Sale of Public Lands in Kanabec County, Minnesota

AGENCY: Bureau of Land Management, Interior.

ACTION: Notice of realty action.

SUMMARY: The Bureau of Land Management has determined that the below listed public lands located in Kanabec County, Minnesota, are suitable for sale utilizing direct non-competitive procedures, at not less than the fair market value. In accordance with Section 7 of the Act of June 28, 1934, as amended, 43 U.S.C. 315f and EO 6964, the described lands are hereby classified as suitable for disposal under the authority of Section 203 of the Act of October 21, 1976; 43 U.S.C. 1713.

Fourth Principal Meridian

T. 28 N., R. 39 W.,

Section 28, SE¼ SE¼ NE¼ SE¼ SW¼, E½ NE¼ SE¼ SE¼ SW¼

The above lands aggregate 2.5 acres.

ADDRESSES: Address comments to Field Manager, Milwaukee Field Office, Bureau of Land Management, 310 West Wisconsin Avenue, Suite 450, Milwaukee, Wisconsin 53203.

FOR FURTHER INFORMATION CONTACT: Paul J. Salvatore, Realty Specialist, (414) 297-4413.

SUPPLEMENTARY INFORMATION: The Bureau of Land Management proposes to sell the surface estate of the above described lands to Mr. Stanley Erickson, by direct sale, at fair market value. The disposal of this land will resolve an inadvertent unauthorized use on public land.

The proposed sale is consistent with the Minnesota Management Framework Plan and would serve important public objectives which could not be achieved by other means. The lands contain no other known public values. The planning document and environmental assessment covering the proposed sale are available for review at the Bureau of Land Management, Milwaukee Field Office, Milwaukee, Wisconsin.

Conveyance of the above described public lands will be subject to:

1. Reservation of a right-of-way to the United States for ditches and canals pursuant to the Act of August 30, 1890, 43 U.S.C. 945.

2. Reservation of all minerals pursuant to section 209 of the Federal Land Policy and Management Act of 1976, 43 U.S.C. 1719.

Upon publication of this notice in the Federal Register, the above described lands will be segregated from all forms of appropriation under the public land laws, including the general mining laws, except for leasing under the mineral leasing laws.

For a period of 45 days after issuance of this notice, interested parties may submit comments to the Field Manager at the address above. Any adverse comments will be evaluated by the State Director who may sustain, vacate, or modify this realty action. In the absence of any objections, this proposed realty action will become final.

Dated: September 1, 2000.
James W. Dryden,
Milwaukee Field Manager.

[FR Doc. 00-23040 Filed 9-7-00; 8:45 am]

BILLING CODE 4310-PN-P